SMALL BUSINESS ADMINISTRATION

Region II Buffalo District Advisory Council; Public Meeting

The U.S. Small Business Administration Region II Buffalo District Advisory Council located in the geographical area of Buffalo, New York, will hold a public meeting on Wednesday, April 9, 2008, starting at 10 a.m. eastern standard time.

The meeting will take place at HSBC Bank USA, One HSBC Center, Buffalo, New York to discuss such matters that may be presented by members, and staff of the U.S. Small Business Administration, or others present.

Anyone wishing to make an oral presentation to the Board must contact Franklin J. Sciortino, District Director, Buffalo District Office, in writing by letter or fax no later than Friday, April 4, 2008 in order to be put on the agenda. Franklin J. Sciortino, District Director, Buffalo District Office, U.S. Small Business Administration, Niagara Center, 540 Niagara Center, 130 S. Elmwood Avenue, Buffalo, New York 14202; telephone (716) 551-4301 or fax (716) 551-4418.

Cherylyn H. Lebon,
Committee Management Officer.

[FR Doc. E8-7063 Filed 4-3-08; 8:45 am]

BILLING CODE 8025-01-P